DEPARTMENT OF ENERGY

Federal Energy Regulatory Commission

Combined Notice of Filings #1

Take notice that the Commission received the following electric rate filings:

Docket Numbers: ER10-2984-029.

Applicants: Merrill Lynch Commodities, Inc.

Description: Notice of Non-Material Change in Status of Merrill Lynch Commodities, Inc.

Filed Date: 11/10/16.

Accession Number: 20161110-5226.

Comments Due: 5 p.m. ET 12/1/16.

Docket Numbers: ER16-1990-001.

Applicants: North Star Solar PV LLC.

Description: Notice of Change in Status of North Star Solar PV LLC.

Filed Date: 11/9/16.

Accession Number: 20161109-5177.

Comments Due: 5 p.m. ET 11/30/16.

Docket Numbers: ER16-2298-002.

Applicants: Duke Energy Kentucky, Inc.

Description: Tariff Amendment: DEK Revised RS No. 14 Filing to be effective 10/1/2016.

Filed Date: 11/10/16.

Accession Number: 20161110-5180.

Comments Due: 5 p.m. ET 12/1/16.

Docket Numbers: ER17-340-000.

Applicants: Southern California Edison Company.

Description: § 205(d) Rate Filing: Filing of Service Agreement No. 916 and cancellation of Service Agmt No. 911 to be effective 11/14/2016.

Filed Date: 11/10/16.

Accession Number: 20161110-5178.

Comments Due: 5 p.m. ET 12/1/16.

Docket Numbers: ER17-341-000.

Applicants: James River Genco, LLC.

Description: Petition for Limited Waiver of Tariff Deadlines and Request for Expedited Action of James River Genco, LLC.

Filed Date: 11/10/16.

Accession Number: 20161110-5216.

Comments Due: 5 p.m. ET 12/1/16.

Docket Numbers: ER17-342-000.

Applicants: Southwest Power Pool, Inc.

Description: § 205(d) Rate Filing: 3281 Mountrail-Williams Electric and Otter Tail Inter Agr to be effective 11/7/2016.

Filed Date: 11/14/16.

Accession Number: 20161114-5070.

Comments Due: 5 p.m. ET 12/5/16.

Docket Numbers: ER17-343-000.

Applicants: Southwest Power Pool, Inc.

Description: § 205(d) Rate Filing: 2252R5 Cottonwood Wind Project GIA to be effective 10/31/2016.

Filed Date: 11/14/16.

Accession Number: 20161114-5097.

Comments Due: 5 p.m. ET 12/5/16.

Take notice that the Commission received the following public utility holding company filings:

Docket Numbers: PH17-3-000.

Applicants: GIC (Ventures) Pte. Ltd.

Description: GIC (Ventures) Pte. Ltd. submits FERC 65-B Material Change in Facts of Waiver Notification.

Filed Date: 11/10/16.

Accession Number: 20161110-5217.

Comments Due: 5 p.m. ET 12/1/16.

Docket Numbers: PH17-4-000.

Applicants: Starwood Energy Group Global, L.L.C.

Description: Starwood Energy Group Global, L.L.C. submits FERC 65-B Material Change in Facts of Waiver Notification.

Filed Date: 11/9/16.

Accession Number: 20161109-5172.

Comments Due: 5 p.m. ET 11/30/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 14, 2016.
Nathaniel J. Davis, Sr.,
Deputy Secretary.

[FR Doc. 2016-27754 Filed 11-17-16; 8:45 am]

BILLING CODE 6717-01-P